DEPARTMENT OF TRANSPORTATION

Federal Aviation Administration

[Docket No. FAA-2022-0701]

Agency Information Collection Activities: Requests for Comments; Clearance of Renewed Approval of Information Collection: Operations Specifications, Part 129 Application.

AGENCY: Federal Aviation Administration (FAA), DOT.

ACTION: Notice and request for comments.

SUMMARY: In accordance with the Paperwork Reduction Act of 1995, FAA invites public comments about our intention to request the Office of Management and Budget (OMB) approval to renew a previously approved information collection. The FAA assesses the information collected and issues operations specifications to foreign air carriers. These operations specifications assure the foreign air carrier's ability to navigate and communicate safely within the U.S. National Airspace System.

DATES: Written comments should be submitted by August 22, 2022.

ADDRESSES: Please send written comments:

By Electronic Docket: www.regulations.gov (Enter docket number into search field)

By email at: danuta.pronczuk@faa.gov and paul.thoren@faa.gov. In the email subject enter: comments on Docket No. FAA-2022-0701

FOR FURTHER INFORMATION CONTACT: Danuta Pronczuk or Paul Thoren by email at: danuta.pronczuk@faa.gov; phone: 202-267-0923; paul.thoren@faa.gov; phone: 424-405-7819.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0749.

Title: Operations Specifications, Part 129 Application.

Form Numbers: There are no FAA forms associated with this collection.

Type of Review: Renewal of an information collection.

Background: The final rule published in 2011, clarified and standardized the rules for applications by foreign air carriers and foreign persons for operations specifications issued under 14 CFR part 129 and established standards for amendment, suspension and termination of those operations specifications. The final rule also applied to foreign air carriers and foreign persons operating U.S.-registered aircraft in common carriage solely outside the United States. This action was necessary to update the process for issuing operations specifications, and it established a regulatory basis for current practices, such as amending, terminating, and suspending operations specifications.

Respondents: Approximately 29 new applicants annually and 480 existing foreign air carriers and foreign persons annually.

Frequency: Information is collected on occasion.

Estimated Average Burden per Response: 27 Hours for new applicants. 47 hours for existing applicants.

Estimated Total Annual Burden: 783 hours for new applicants and 22, 560 hours for existing applicants.

Issued in Washington, DC.
Robert C. Carty,
Deputy Executive Director, Flight Standards Service.

[FR Doc. 2022-13395 Filed 6-22-22; 8:45 am]

BILLING CODE 4910-13-P